COMMITTEE FOR PURCHASE FROM PEOPLE WHO ARE BLIND OR SEVERELY DISABLED

Procurement List; Proposed Deletions

AGENCY: Committee for Purchase From People Who Are Blind or Severely Disabled.

ACTION: Proposed deletions from the procurement list.

SUMMARY: The Committee is proposing to delete product(s) and service(s) from the Procurement List that were furnished by nonprofit agencies employing persons who are blind or have other severe disabilities.

DATES: Comments must be received on or before: August 18, 2024.

ADDRESSES: Committee for Purchase From People Who Are Blind or Severely Disabled, 355 E Street SW, Suite 325, Washington, DC 20024.

FOR FURTHER INFORMATION CONTACT: For further information or to submit comments contact: Michael R. Jurkowski, Telephone: (703) 489-1322, or email CMTEFedReg@AbilityOne.gov.

SUPPLEMENTARY INFORMATION: This notice is published pursuant to 41 U.S.C. 8503 (a)(2) and 41 CFR 51-2.3. Its purpose is to provide interested persons an opportunity to submit comments on the proposed actions.

Deletions

The following product(s) and service(s) are proposed for deletion from the Procurement List:

Product(s)

NSN(s)—Product Name(s):

7530-01-455-6055—Folders, File, Manila, ⅕ Cut, Legal, PG/25

7530-01-455-6056—Folders, File, Manila, ½ Cut, Legal, PG/24

7530-01-645-8092—File Folder, Single Tab, ⅓ Cut, Legal, Position 1

7530-01-645-8094—File Folder, Single Tab, ⅓ Cut, Legal, Position 2

7530-01-645-8095—File Folder, Single Tab, ⅓ Cut, Legal, Position 3

7530-01-661-8831—Booklet Envelope, Poly, String and Button, Side Loading, Red, 11⅝″ × 9¾″

7530-01-661-9618—Envelope, Poly, Hook and Loop, Top Loading, Clear, 11⅝″ × 9¾″

Authorized Source of Supply: Association for Vision Rehabilitation and Employment, Inc., Binghamton, NY

Contracting Activity: GSA/FAS ADMIN SVCS ACQUISITION BR(2, NEW YORK, NY

Service(s)

Service Type: Switchboard Operation

Mandatory for: Department of Veterans Affairs, Michael E. DeBakey VA Medical Center, 2002 Holcombe Boulevard, Houston, TX

Authorized Source of Supply: Lighthouse for the Blind of Houston, Houston, TX

Contracting Activity: VETERANS AFFAIRS, DEPARTMENT OF, 256-NETWORK CONTRACT OFC 16(00256)

Service Type: Janitorial/Custodial

Mandatory for: US Army, PVT Sterling L. Morelock USARC, 7100 Leech Farm Road, Pittsburgh, PA

Contracting Activity: DEPT OF THE ARMY, W6QK ACC-PICA

Service Type: Janitorial/Grounds Maintenance

Mandatory for: US Army Corps of Engineers, East Totten Trail Recreation Area, Lake Sakakawea, 201 1st Street, Riverdale, ND

Authorized Source of Supply: MVW Services, Inc., Minot, ND

Contracting Activity: DEPT OF THE ARMY, W071 ENDIST OMAHA

Service Type: Laundry Service

Mandatory for: Navy Bureau of Medicine and Surgery (BUMED): 2300 East Street Northwest, Washington, DC

Authorized Source of Supply: Rappahannock Goodwill Industries, Inc., Fredericksburg, VA

Contracting Activity: DEPT OF THE ARMY, W40M RHCO-ATLANTIC USAHCA

Service Type: Laundry Service

Mandatory for: Malcolm Grow Medical Center, Andrews AFB, MD

Authorized Source of Supply: Rappahannock Goodwill Industries, Inc., Fredericksburg, VA

Contracting Activity: DEPT OF THE ARMY, W40M RHCO-ATLANTIC USAHCA

Service Type: Laundry Service

Mandatory for: Walter Reed Army Medical Center: 6900 Georgia Avenue NW, Washington, DC

Authorized Source of Supply: Rappahannock Goodwill Industries, Inc., Fredericksburg, VA

Contracting Activity: DEPT OF THE ARMY, W40M RHCO-ATLANTIC USAHCA

Service Type: Laundry Service

Mandatory for: DiLorenzo Army Health Clinic: Pentagon, Arlington, VA

Authorized Source of Supply: Rappahannock Goodwill Industries, Inc., Fredericksburg, VA

Contracting Activity: DEPT OF THE ARMY, W40M RHCO-ATLANTIC USAHCA

Service Type: Laundry Service

Mandatory for: Kimbrough Ambulatory Care Center, Fort Meade, MD

Authorized Source of Supply: Rappahannock Goodwill Industries, Inc., Fredericksburg, VA

Contracting Activity: DEPT OF THE ARMY, W40M RHCO-ATLANTIC USAHCA

Service Type: Laundry Service

Mandatory for: National Naval Medical Center: Naval Surface Warfare Center, Bethesda, MD

Authorized Source of Supply: Rappahannock Goodwill Industries, Inc., Fredericksburg, VA

Contracting Activity: DEPT OF THE ARMY, W40M RHCO-ATLANTIC USAHCA

Service Type: Laundry Service

Mandatory for: US NAVY, Patuxent River Naval Station And Branch Naval Health Clinics, 47149 Buse Road, Patuxent River, MD

Authorized Source of Supply: Louise W. Eggleston Center, Inc., Norfolk, VA

Contracting Activity: DEPT OF THE NAVY, NAVY MEDICINE EAST

Service Type: Grounds Maintenance

Mandatory for: US Air Force, Patrick Space Force Base, Athletic Fields, Patrick Air Force Base, FL

Authorized Source of Supply: Brevard Achievement Center, Inc., Rockledge, FL

Contracting Activity: DEPT OF THE AIR FORCE, FA2521 45 CONS LGC

Service Type: Food Service Attendant

Mandatory for: US Air Force, Alabama Air National Guard, HQ 117th Air Refueling Wing, 5401 East Lake Boulevard, Birmingham, AL

Authorized Source of Supply: Alabama Goodwill Industries, Inc., Birmingham, AL

Contracting Activity: DEPT OF THE ARMY, W7MT USPFO ACTIVITY ALANG 117

Service Type: Corrosion Repair Services

Mandatory for: US Marine Corps, Marine Corps Base Hawaii (MCBH), Corrosion Rehabilitation Facility, Building 3016 Harris Ave, Kaneohe Bay, HI

Authorized Source of Supply: Goodwill Contract Services of Hawaii, Inc., Honolulu, HI

Contracting Activity: DEPT OF THE NAVY, HQBN MCBH

Service Type: Grounds Maintenance

Mandatory for: US Army Reserve, Myrtle Beach USARC, 3392 Philllis Blvd., Myrtle Beach, SC

Authorized Source of Supply: Horry County Disabilities and Special Needs Board, Conway, SC

Contracting Activity: DEPT OF THE ARMY, W074 ENDIST CHARLESTON

Service Type: Switchboard Operation

Mandatory for: Department of Veterans Affairs, Birmingham VA Medical Center, 700 19th Street South, Birmingham, AL

Authorized Source of Supply: Alabama Goodwill Industries, Inc., Birmingham, AL

Contracting Activity: VETERANS AFFAIRS, DEPARTMENT OF, 247-NETWORK CONTRACT OFC 7(00247)

Service Type: Grounds Maintenance

Mandatory for: Prince George's County Memorial USARC, 6601 Baltimore Avenue, Riverdale, MD

Contracting Activity: DEPT OF THE ARMY, W6QM MICC-FT DIX (RC-E)

Service Type: Tactical Vehicle Wash Facility

Mandatory for: Yano Tactical Vehicle Wash Facility, Dir of Training Sustainment, Harmony Church, Building 5525, Fort Benning, GA

Authorized Source of Supply: Power Works Industries, Inc., Columbus, GA

Contracting Activity: DEPT OF THE ARMY, W6QM MICC-FT MOORE

Service Type: Janitorial/Custodial

Mandatory for: US Army Corps of Engineers, Coralville Lake Office Project, Iowa City, IA

Contracting Activity: DEPT OF THE ARMY, W07V ENDIST ROCK ISLAND

Michael R. Jurkowski,
Director, Business Operations.

[FR Doc. 2024-15937 Filed 7-18-24; 8:45 am]

BILLING CODE 6353-01-P